DEPARTMENT OF THE INTERIOR

National Park Service

[NPS-WASO-NRSS-BRD-NPS0035656; PWONRADB0 PPMRSNR1Y.NM00000 (222); OMB Control Number 1024-0265]

Agency Information Collection Activities; NPS Institutional Animal Care and Use Committee (IACUC) General Submission, Exhibitor, Annual Review, and Amendment Forms

AGENCY: National Park Service, Interior.

ACTION: Notice of information collection; request for comment.

SUMMARY: In accordance with the Paperwork Reduction Act of 1995, we, the National Park Service (NPS) are proposing to renew an information collection.

DATES: Interested persons are invited to submit comments on or before June 15, 2023.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please reference Office of Management and Budget (OMB) Control Number 1024-0265 in the subject line of your comments.

FOR FURTHER INFORMATION CONTACT: To request additional information about this ICR by mail, contact Allie Petersen, NPS IACUC Administrator by mail at Biological Resource Division, 1201 Oakridge Drive, Suite 200, Fort Collins, CO, 80525; or npsiacuc@nps.gov (email). You may also contact Dr. Laurie Baeten at laurie_baeten@nps.gov (email) or (970) 966-0756 (telephone). Individuals in the United States who are deaf, deafblind, hard of hearing, or have a speech disability may dial 711 (TTY, TDD, or Tele Braille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 22, 2022 (87 FR 24196) and ended on June 21, 2022. We did not receive any comment on that notice. We reopened the comment period with a second notice published October 28, 2022 (87 FR 65245). This notice including information about a new electronic platform, Key Solutions protocol IACUC Software Module for Animal Subjects that was not described in the original notice. We receive the following comments for that notice.

Comment 1: The first comment was concerned with the welfare of dogs, cats, and primates in lab research, none of which are included in the scope of the NPS IACUC. The NPS IACUC primarily reviews field and ecological research of North American wildlife, most often in free-ranging settings. The second comment was about the review process, not this specific information collection. The commenter also suggested we add more language, definitions, and references regarding harm, pain, and distress to our forms.

NPS Response: In our response, we assured the commenter that our IACUC is well-situated to review the protocols we receive. We will also work towards incorporating additional language, definitions, and references regarding pain and distress in our communications with researchers.

Comment 2: The second comment did not specially address the information in the 60-day notice.

NPS Response: We acknowledge receipt but did not provide a response.

At the time of this submission, the electronic platform is currently under development and will not be in use before this collection expires. Therefore, the program is requesting an extension, without change to the currently approved collection. We will submit a request for revision when the electronic platform is operational.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Pursuant to the Animal Welfare Act (AWA), its Regulations (AWAR), and the Interagency Research Animal Committee (IRAC), any entity or institution that uses vertebrate animals for research, testing, or training purposes must have an oversight committee to evaluate all aspects of that institution's animal care and use. To be in compliance, the NPS is responsible for managing and maintaining an Institutional Animal Care and Use Committee (IACUC) that has the experience and expertise necessary to assess and approve all research, testing, or training activities involving vertebrate animals on NPS-managed lands and territories. All research, testing, or training projects involving animals taking place on NPS territories must be approved by the NPS IACUC prior to their commencement. IACUC will collect the following information in the current forms from submitters for consideration by the committee:

• IACUC General Submission (GS) Form (NPS Form 10-1301)

• IACUC Amendment Form (NPS Form 10-1301A)

• IACUC Annual Review Form (NPS Form 10-1302)

• IACUC Concurrence Form (NPS Form 10-1303)

• IACUC Field Study Form (NPS Form 10-1304)

As directed by the AWA, NPS IACUC is a self-regulating entity that currently consists of a Chair, NPS Regional members, and two additional members (a veterinarian serving as the “Attending Veterinarian” and another individual serving as the “Unaffiliated Member at-Large”).

Title of Collection: NPS Institutional Animal Care and Use Committee (IACUC) General Submission, Annual Review, Concurrence, Field Study, and Amendment Forms.

OMB Control Number: 1024-0265.

Form Numbers: NPS Forms 10-1301, 10-1301A, 10-1302, 10-1303 and 10-1304.

Type of Review: Extension of a currently approved collection.

Respondents/Affected Public: State and local governments; nonprofit organizations and private businesses.

Respondent's Obligation: Mandatory.

Total Estimated Annual Number of Responses: 230.

Estimated Completion Time per Response: 15 min to 3 hours (times vary depending upon the activity).

Total Estimated Annual Burden Hours: 140 Hours.

Frequency of Collection: On occasion.

Total Estimated Annual Nonhour Burden Cost: None,

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-10400 Filed 5-15-23; 8:45 am]

BILLING CODE 4312-52-P